DEPARTMENT OF EDUCATION

Applications for New Awards; Rural Postsecondary and Economic Development Grant Program

AGENCY: Office of Postsecondary Education, Department of Education.

ACTION: Notice.

SUMMARY: The Department of Education (Department) is issuing a notice inviting applications for fiscal year (FY) 2021 for the Rural Postsecondary and Economic Development (RPED) Grant Program, Assistance Listing Number 84.116W. This notice relates to the approved information collection under OMB control number 1894-0006.

DATES:

Applications Available: November 5, 2021.

Deadline for Transmittal of Applications: December 6, 2021.

ADDRESSES: For the addresses for obtaining and submitting an application, please refer to our Common Instructions for Applicants to Department of Education Discretionary Grant Programs, published in the Federal Register on February 13, 2019 (84 FR 3768), and available at www.govinfo.gov/content/pkg/FR-2019-02-13/pdf/2019-02206.pdf.

FOR FURTHER INFORMATION CONTACT: Kurrinn Abrams, U.S. Department of Education, 400 Maryland Avenue SW, Washington, DC 20202-4260. Telephone: (202) 453-7906. Email: kurrinn.abrams2@ed.gov.

If you use a telecommunications device for the deaf (TDD) or a text telephone (TTY), call the Federal Relay Service (FRS), toll-free, at 1-800-877-8339.

SUPPLEMENTARY INFORMATION:

Full Text of Announcement

I. Funding Opportunity Description

Purpose of Program: The purpose of the RPED Grant Program is to improve rates of postsecondary enrollment, persistence, and completion among rural students through development of high-quality career pathways aligned to high-skill, high-wage, and in-demand industry sectors and occupations in the region.

Background: Rural students account for 9.7 million—about 19 percent—of public elementary and secondary school students in the United States and face many challenges accessing postsecondary education.¹ In fact, according to data from the National Education Center for Statistics, 29 percent of individuals from rural areas who are between the ages of 18 and 24 range are enrolled in higher education, compared to almost 48 percent of individuals in that age range who come from cities and 42 percent from suburban areas.² For rural students, and particularly low-income rural students, barriers to accessing postsecondary education include difficulties related to accessing high speed internet, transportation, childcare, and healthcare; as well as challenges of experiencing poverty, food insecurity, and housing insecurity. These and other challenges may negatively affect rural students' ability to be academically successful.³ Many of these challenges exist as a result of geographic isolation, distance from services, and a lack of resources and institutions to support community members. Rural communities are often located in education deserts, which may limit students' exposure or convenient access to postsecondary institutions.⁴ Many rural students who do decide to attend college are first-generation students who lack sufficient college preparation in high school,⁵ and are unfamiliar with the inner workings of postsecondary institutions, including the college application process and how to finance a college education.⁶ These students may feel underprepared for higher education and typically face challenges once in college; many experience hurdles that leave them unable to complete their programs.⁷

¹ nces.ed.gov/programs/digest/d20/tables/dt20_203.72.asp?current=yes.

² nces.ed.gov/surveys/ruraled/tables/b.3.b.-1.asp.

³ files.eric.ed.gov/fulltext/EJ1101249.pdf.

⁴ files.eric.ed.gov/fulltext/EJ1193574.pdf.

⁵ files.eric.ed.gov/fulltext/EJ1101249.pdf.

⁶ files.eric.ed.gov/fulltext/EJ1193574.pdf.

⁷ files.eric.ed.gov/fulltext/EJ1193574.pdf.

Higher education attainment is correlated with greater opportunities for careers, higher individual lifetime earnings, and a better quality of life, and is seen to contribute to the overall well-being of society.⁸ Therefore, it is critical to undertake efforts to better prepare students in rural communities for the changing needs of the current workforce, and to create a more skilled workforce that will attract better jobs and provide economic support to the community. However, institutions in rural communities must be given the tools to develop strategies and plans that best serve their population of rural students.⁹

⁸ files.eric.ed.gov/fulltext/EJ1101249.pdf.

⁹ files.eric.ed.gov/fulltext/EJ1101249.pdf.

Rural postsecondary institutions are best positioned to enhance and develop programs that improve the preparation, support, and retention of rural students in higher education, and that help them to graduate from college and transition into in-demand and well-paying occupations. To this end, the RPED Grant Program is designed to support postsecondary enrollment and completion by addressing the challenges rural students face accessing postsecondary education that will prepare them for high-skill, high-wage, and in-demand occupations.

Priorities: This notice contains one absolute priority and two competitive preference priorities.

We are establishing these priorities for the FY 2021 grant competition and any subsequent year in which we make awards from the list of unfunded applications from this competition, in accordance with section 437(d)(1) of the General Education Provisions Act (GEPA), 20 U.S.C. 1232(d)(1).

Absolute Priority: This priority is an absolute priority. Under 34 CFR 75.105(c)(3), we consider only applications that meet this priority.

This priority is:

Projects that Increase Postsecondary Access, Affordability, Success, and Completion for Rural Students.

Projects that will serve rural students by—

(a) Increasing the number and proportion of rural students who enroll in and complete postsecondary education programs through activities and strategies related to college preparation, outreach in rural communities, awareness of postsecondary options, recruitment of students from rural communities, support throughout the college application and selection process, and long-term college and career advising relationships with middle and high school students to support them through their transition to postsecondary education;

(b) Supporting the development and implementation of comprehensive student success programs that integrate multiple services or initiatives across academic and student affairs, such as academic advising, structured/guided pathways, career services, student financial aid, transfer support from two- to four-year programs, and other wrap around services;

(c) Supporting the development and implementation of high-quality and accessible learning opportunities for rural students that cater to their unique needs and geographic distance from postsecondary education institutions, and align with career pathways to high-need occupations, including learning opportunities that are accelerated; hybrid online; work-based; or flexible for working students;

(d) Supporting the development or implementation of evidence-based strategies to promote rural students' development of the knowledge and skills necessary for success in the workforce and in high-need occupations, including career training that leads to good jobs in fields relevant to the regional economy, and to raise awareness of, and access to, paid internship, fellowship, apprenticeship, and job opportunities; and

(e) Implementing a sustainability plan to maintain programs and services after completion of the grant.

Competitive Preference Priorities: These priorities are competitive preference priorities. Under 34 CFR 75.105(c)(2)(i), we award up to an additional 10 points to an application, depending on how well the application meets these priorities. An applicant may address one or both of the competitive preference priorities. The point value for each priority is in parenthesis.

These priorities are:

Competitive Preference Priority 1—Supporting Access to Technology (Up to 5 points).

Projects that are designed to promote educational equity and adequacy in resources and opportunity for rural students through student-centered learning models that provide access to technology and leverage technology to address learner variability (e.g., universal design for learning, competency-based education, project-based learning, or hybrid/blended learning) and provide high-quality learning content, applications, or tools.

Competitive Preference Priority 2—Strengthening Cross-Agency Coordination and Community Engagement to Advance Systemic Change (Up to 5 points).

Projects that are designed to take a systemic approach to improving outcomes for rural students through the development of career pathways aligned to high-skill, high-wage or in-demand industry sectors and occupations in the region in partnership with regional economic development entities, workforce agencies, regional employers, or other relevant nonprofit organizations.

Definitions: We are establishing the definitions of “competency-based education”, “regional economic development entity”, and “rural area” for the FY 2021 grant competition and any subsequent year in which we make awards from the list of unfunded applications from this competition, in accordance with section 437(d)(1) of GEPA. The definitions of “demonstrates a rationale”, “evidence-based”, “logic model”, “project component”, and “relevant outcome” are from 34 CFR 77.1. The definition of “universal design for learning” is from section 101 of the Higher Education Act of 1965, as amended (HEA).

Competency-based education (also called proficiency-based or mastery-based learning) means learning based on knowledge and skills that are transparent and measurable. Progression is based on demonstrated mastery of what students are expected to know (knowledge) and be able to do (skills).

Demonstrates a rationale means a key project component included in the project's logic model is informed by research or evaluation findings that suggest the project component is likely to improve relevant outcomes.

Evidence-based means the proposed project component is supported by evidence that demonstrates a rationale.

Logic model (also referred to as a theory of action) means a framework that identifies key project components of the proposed project (i.e., the active “ingredients” that are hypothesized to be critical to achieving the relevant outcomes) and describes the theoretical and operational relationships among the key project components and relevant outcomes.

Note: In developing logic models, applicants may want to use resources such as the Regional Educational Laboratory Program's (REL Pacific) Education Logic Model Application, available at https://ies.ed.gov/ncee/edlabs/regions/pacific/elm.asp. Other sources include: https://ies.ed.gov/ncee/edlabs/regions/pacific/pdf/REL_2014025.pdf, https://ies.ed.gov/ncee/edlabs/regions/pacific/pdf/REL_2014007.pdf, and https://ies.ed.gov/ncee/edlabs/regions/northeast/pdf/REL_2015057.pdf.

Project component means an activity, strategy, intervention, process, product, practice, or policy included in a project. Evidence may pertain to an individual project component or to a combination of project components (e.g., training teachers on instructional practices for English learners and follow-on coaching for these teachers).

Regional economic development entity means an entity working to promote economic development in, or employing residents of, a rural area, which may include local boards (as defined in section 3(33) of the Workforce Innovation and Opportunity Act), Chambers of Commerce, and employers in the rural region covered by the grant.

Relevant outcome means the student outcome(s) or other outcome(s) the key project component is designed to improve, consistent with the specific goals of the program.

Rural area means an area that is characterized by locale code 41, 42, or 43. Please refer to the NCES locale lookup map: https://nces.ed.gov/programs/maped/LocaleLookup/.

Universal design for learning means a scientifically valid framework for guiding educational practice that—(a) provides flexibility in the ways information is presented, in the ways students respond or demonstrate knowledge and skills, and in the ways students are engaged; and (b) reduces barriers in instruction, provides appropriate accommodations, supports, and challenges, and maintains high achievement expectations for all students, including students with disabilities and students who are limited English proficient.

Waiver of Proposed Rulemaking: Under the Administrative Procedure Act (5 U.S.C. 553), the Department generally offers interested parties the opportunity to comment on proposed priorities, selection criteria, definitions, and other requirements. Section 437(d)(1) of GEPA, however, allows the Secretary to exempt from rulemaking requirements regulations governing the first grant competition under a new or substantially revised program authority. This is the first grant competition for this program, and therefore qualifies for this exemption. In order to ensure timely grant awards, the Secretary has decided to forgo public comment on the priorities, requirements, and definitions under section 437(d)(1) of GEPA.

Program Authority: 20 U.S.C. 1138-1138d; Departments of Labor, Health and Human Services, and Education and Related Agencies Appropriations Act, 2021, H.R. 7614, 116th Congress (2020); the explanatory statement accompanying H.R. 133 (Pub. L. 116-260).

Note: Projects will be awarded and must be operated in a manner consistent with the nondiscrimination requirements contained in Federal civil rights laws.

Applicable Regulations: (a) The Education Department General Administrative Regulations in 34 CFR parts 75, 77, 79, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

II. Award Information

Type of Award: Discretionary grant.

Estimated Available Funds: $9,900,000.

Contingent upon the availability of funds and the quality of applications, we may make additional awards in subsequent years from the list of unfunded applications from this competition.

Estimated Range of Awards: $1,100,000 to $1,237,500.

Estimated Average Size of Awards: $1,200,000.

Maximum Award: $1,237,500.

Note: The maximum award is based on a 3-year budget period. Applicants will need to prepare a multiyear budget request for up to 3 years.

Estimated Number of Awards: 8.

Note: The Department is not bound by any estimates in this notice.

Project Period: Up to 36 months.

III. Eligibility Information

1. Eligible Applicants: For the FY 2021 grant competition in accordance with section 437(d)(1) of GEPA, the following are eligible applicants: Public and private nonprofit institutions of higher education (IHEs), as defined in section 101 of the HEA, with enrollment of at least 30 percent of students who attended high schools located in rural areas (as defined in this notice).

2. a. Cost Sharing or Matching: This competition does not require cost sharing or matching.

b. Supplement-Not-Supplant: For the FY 2021 grant competition and any subsequent year in which we make awards from the list of unfunded applications from this competition, this competition involves supplement-not-supplant funding requirements. This program uses the waiver authority of section 437(d)(1) of GEPA to establish this as a supplement-not-supplant program. Grant funds must be used so that they supplement and, to the extent practical, increase the funds that would otherwise be available for the activities to be carried out under the grant and in no case supplant those funds.

c. Indirect Cost Rate Information: For the FY 2021 grant competition and any subsequent year in which we make awards from the list of unfunded applications from this competition, in accordance with section 437(d)(1) of GEPA, a grantee's indirect cost reimbursement is limited to eight percent (8%) of a modified total direct cost base. For more information regarding indirect costs, or to obtain a negotiated indirect cost rate, please see www2.ed.gov/about/offices/list/ocfo/intro.html.

d. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application.

IV. Application and Submission Information

1. Application Submission Instructions: Applicants are required to follow the Common Instructions for Applicants to Department of Education Discretionary Grant Programs, published in the Federal Register on February 13, 2019 (84 FR 3768), and available at www.govinfo.gov/content/pkg/FR-2019-02-13/pdf/2019-02206.pdf, which contain requirements and information on how to submit an application.

2. Intergovernmental Review: This program is subject to Executive Order 12372 and the regulations in 34 CFR part 79. However, under 34 CFR 79.8(a), we waive intergovernmental review in order to make awards by December 31, 2021.

3. Funding Restrictions: We reference regulations outlining funding restrictions in the Applicable Regulations section of this notice.

4. Recommended Page Limit: The application narrative is where you, the applicant, address the selection criteria that reviewers use to evaluate your application. We recommend that you (1) limit the application narrative to no more than 50 pages and (2) use the following standards:

• A “page” is 8.5″ x 11″, on one side only, with 1″ margins at the top, bottom, and both sides.

• Double space (no more than three lines per vertical inch) all text in the application narrative, except titles, headings, footnotes, quotations, references, and captions.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract. However, the recommended page limit does apply to all of the application narrative.

V. Application Review Information

1. Selection Criteria: The selection criteria for this program are from 34 CFR 75.210. Applicants should address each of the selection criteria. The points assigned to each criterion are indicated in the parentheses next to the criterion. An applicant may earn up to a total of 100 points based on the selection criteria and up to 10 additional points under the competitive preference priorities, for a total score of up to 110 points. All applications will be evaluated based on the selection criteria as follows:

(a) Quality of the project design. (Maximum 35 points)

(1) The Secretary considers the quality of the design of the proposed project.

(2) In determining the quality of the design of the proposed project, the Secretary considers the following factors:

(i) The extent to which the goals, objectives, and outcomes to be achieved by the proposed project are clearly specified and measurable. (Up to 10 points)

(ii) The extent to which the design of the proposed project is appropriate to, and will successfully address, the needs of the target population or other identified needs. (Up to 10 points)

(iii) The extent to which the design of the proposed project includes a thorough, high-quality review of the relevant literature, a high-quality plan for project implementation, and the use of appropriate methodological tools to ensure successful achievement of project objectives. (Up to 5 points)

(iv) The extent to which the proposed project demonstrates a rationale (as defined in this notice). (Up to 5 points)

(v) The extent to which the proposed project is designed to build capacity and yield results that will extend beyond the period of Federal financial assistance. (Up to 3 points)

(vi) The extent to which the services to be provided by the proposed project involve the collaboration of appropriate partners for maximizing the effectiveness of project services. (Up to 2 points)

(b) Quality of the management plan. (Maximum 35 points)

(1) The Secretary considers the quality of the management plan for the proposed project.

(2) In determining the quality of the management plan, the Secretary considers the following factors:

(i) The adequacy of the management plan to achieve the objectives of the proposed project on time and within budget, including clearly defined responsibilities, timelines, and milestones for accomplishing project tasks. (Up to 10 points)

(ii) The extent to which the costs are reasonable in relation to the number of persons to be served and to the anticipated results and benefits. (Up to 5 points)

(iii) The adequacy of mechanisms for ensuring high-quality products and services from the proposed project. (Up to 5 points)

(iv) The adequacy of procedures for ensuring feedback and continuous improvement in the operation of the proposed project. (Up to 5 points)

(v) The extent to which the time commitments of the project director and principal investigator and other key project personnel are appropriate and adequate to meet the objectives of the proposed project. (Up to 10 points)

(c) Adequacy of resources. (Maximum 10 points)

(1) The Secretary considers the adequacy of resources for the proposed project.

(2) In determining the adequacy of resources for the proposed project, the Secretary considers the following factors:

(i) The adequacy of support, including facilities, equipment, supplies, and other resources, from the applicant organization or the lead applicant organization. (Up to 5 points)

(ii) The relevance and demonstrated commitment of each partner in the proposed project to the implementation and success of the project. (Up to 5 points)

(d) Quality of the project evaluation. (Maximum 20 points)

(1) The Secretary considers the quality of the evaluation to be conducted of the proposed project.

(2) In determining the quality of the evaluation, the Secretary considers:

(i) The extent to which the methods of evaluation are thorough, feasible, and appropriate to the goals, objectives, and outcomes of the proposed project. (Up to 10 points)

(ii) The extent to which the methods of evaluation provide for examining the effectiveness of project implementation strategies. (Up to 10 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances, including those applicable to Federal civil rights laws that prohibit discrimination in programs or activities receiving Federal financial assistance from the Department (34 CFR 100.4, 104.5, 106.4, 108.8, and 110.23).

A panel of two non-Federal reviewers will review and score each application in accordance with the selection criteria and the competitive preference priorities. Award(s) will be made in rank order according to the average score received from the peer review.

Tiebreaker. In the event there are two or more applications with the same final score, and there are insufficient funds to fully support each of these applications, the Department will use other information to select applications (34 CFR 75.217). The Department will apply the following procedure to determine which application or applications will receive an award:

First Tiebreaker: The first tiebreaker will be the highest average score for the selection criterion “Quality of the Project Design.” If a tie remains, the second tiebreaker will be utilized.

Second Tiebreaker: The second tiebreaker will be the highest average score for the selection criterion “Quality of the Management Plan.” If a tie remains, the third tiebreaker will be utilized.

Third Tiebreaker: The third tiebreaker will be the highest average score for the selection criterion “Quality of the Project Evaluation.”

Fourth Tiebreaker: The fourth tiebreaker will be the highest percentage of students who attended high schools in rural areas.

3. Risk Assessment and Specific Conditions: Consistent with 2 CFR 200.206, before awarding grants under this competition, the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: Under the Government Performance and Results Act of 1993 and for purposes of Department reporting under 34 CFR 75.110, the Department will use the following performance measures to evaluate the success of the RPED Grants Program.

1. The number of rural students served by direct student services supported by the grant.

2. The change in the annual enrollment rate at grantee institutions of rural students who are served by direct student services supported by the grant from one year to the next.

3. The number of rural students served by direct student services supported by the grant that transfer to a four-year institution or obtain a degree or certificate of completion.

4. The number of rural students served by the program who obtain a paid internship, apprenticeship, or employment.

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Michelle Asha Cooper,
Acting Assistant Secretary for Postsecondary Education.

[FR Doc. 2021-24361 Filed 11-4-21; 8:45 am]

BILLING CODE 4000-01-P